GENERAL SERVICES ADMINISTRATION

48 CFR Part 6101

[GSABCA Amendment 2005-01; BCA Case 2005-61-1]

Board of Contract Appeals; Rules of Procedure of the General Services Administration Board of Contract Appeals

AGENCY: Board of Contract Appeals, General Services Administration (GSA).

ACTION: Final rule.

SUMMARY: This document contains final revisions to the rules governing proceedings before the General Services Administration Board of Contract Appeals (Board). The Board is revising the language regarding the processing of awards for payment in contract appeals. The Board, by majority vote, has adopted this revised rule pursuant to its authority contained in the Contract Disputes Act of 1978 (41 U.S.C. 601-613).

DATES: Effective Date: August 22, 2005.

FOR FURTHER INFORMATION CONTACT Margaret S. Pfunder, Chief Counsel, GSA Board of Contract Appeals, telephone (202) 501-0272, internet address margaret.pfunder@gsa.gov. Please cite GSABCA Amendment 2005-01, BCA Case 2005-61-1.

SUPPLEMENTARY INFORMATION:

A. Background

Section 6101.36 is amended to conform to procedures required by the Department of the Treasury in processing awards for payment from the Judgment Fund. The Contract Disputes Act of 1978, 41 U.S.C. 612, provides that a monetary award to a contractor from a Board of Contract Appeals shall be paid promptly from the Judgment Fund. The Department of the Treasury's Financial Management Service (FMS), through the Treasury Financial Manual, volume I, part 6, chapter 3100, requires that the Government agency “responsible for defending the United States” in litigation or “authorized to settle the claim” in administrative actions submit completed copies of specified forms to FMS in order to process payment of monetary awards from the Judgment Fund. These requirements have superseded the procedures contained in section 6101.36, and the revised section 6101.36 reflects these requirements. This revision only affects paragraphs (c) and (d) of section 6101.36.

This is not a significant regulatory action and, therefore, was not subject to review under Section 6(b) of Executive Order 12866, Regulatory Planning and Review, dated September 30, 1993. This rule is not a major rule under 5 U.S.C. 804.

B. Regulatory Flexibility Act

The General Services Administration certifies that this final rule will not have a significant economic impact on a substantial number of small entities within the meaning of the Regulatory Flexibility Act, 5 U.S.C. 601, et seq., because the rule does not impose any additional costs on either small or large businesses.

C. Paperwork Reduction Act

The Paperwork Reduction Act does not apply because the changes do not impose recordkeeping or information collection requirements, or otherwise collect information from offerors, contractors, or members of the public that require approval of the Office of Management and Budget under 44 U.S.C. 3501, et seq.

List of Subjects in 48 CFR Part 6101

Administrative practice and procedure, Government procurement.

Dated: August 15, 2005.
Stephen M. Daniels,
Chairman, Board of Contract Appeals, General Services Administration.

Therefore, GSA amends 48 CFR part 6101 as set forth below:

PART 6101—RULES OF PROCEDURE OF THE GENERAL SERVICES ADMNISTRATION BOARD OF CONTRACT APPEALS (STANDARD PROCEEDINGS)

1. The authority citation for 48 CFR part 6101 continues to read as follows:

Authority: 41 U.S.C. 601-613.

2. Amend section 6101.36 by revising paragraphs (c) and (d) to read as follows:

6101.36 Payment of Board awards [Rule 136].

* * * * *

(c) Procedure for filing of certificates of finality. Whenever the Board issues a decision or an order awarding a party any amount of money, it will attach to the copy of the decision sent to each party forms such as those illustrated in the appendix to this part. The conditions for payment prescribed in paragraph (b)(1) of this section are satisfied if each of the parties returns a completed and duly executed copy of this form to the Board. When the form is executed on behalf of an appellant or applicant by an attorney or other representative, proof of signatory authority shall also be furnished. Upon receipt of completed and duly executed Certificates of Finality from the parties, the Board will forward a copy of each such certificate (together with proof of signatory authority, if required) and a certified copy of its decision to the responsible agency for certification and transmission to the United States Department of the Treasury for payment.

(d) Procedure in absence of certificate of finality. When one or both of the parties fails to submit a duly executed Certificate of Finality, but the conditions for payment have been satisfied as provided in paragraph (b)(2) of this section, the appellant or applicant may file a written request that the Board forward its decision to the responsible agency for certification and transmission to the United States Department of the Treasury for payment. Thereupon, the Board will forward a copy of that request and a certified copy of its decision to the responsible agency.

* * * * *

[FR Doc. 05-16479 Filed 8-19-05; 8:45 am]

BILLING CODE 6820-AL-S